NATIONAL ARCHIVES AND RECORDS ADMINISTRATION

[NARA-2020-051]

Agency Information Collection Activities: Submission for OMB Review; Comment Request; Correction

AGENCY: National Archives and Records Administration (NARA).

ACTION: Correction notice.

SUMMARY: We previously published notice that we were proposing to request Office of Management and Budget (OMB) approval to renew NARA information collections 3095-0035, which relates to copier-to-copier reproduction requests, and 3095-0038 and 3095-0039, which relate to requests for documents or information from former military personnel and medical records, military personnel and family medical records, or personnel and medical records of former Federal civilian employees. However, while the body of the notice properly identified and discussed these information collections, the summary paragraph erroneously identified a different set of information collections, for which we had previously published notice. We are publishing this correction notice to clarify that commenters should comment only on the information collections identified here and in the body of the previous notice, not the NATF forms identified in the previous summary.

DATES: OMB must receive written comments on the information collections discussed in the notice published June 16, 2020 (85 FR 36425), on or before July 16, 2020, as stated in the previous notice.

ADDRESSES: Send comments and recommendations for the proposed information collections to www.reginfo.gov/public/do/PRAMain. Find these particular information collections by selecting “Currently under 30-day Review—Open for Public Comments” or by using the search function.

FOR FURTHER INFORMATION CONTACT: Contact Tamee Fechhelm, Paperwork Reduction Act Officer, by email at tamee.fechhelm@nara.gov or by telephone at 301.837.1694 with requests for additional information or copies of the proposed information collection and supporting statement.

SUPPLEMENTARY INFORMATION: Pursuant to the Paperwork Reduction Act of 1995 (Pub. L. 104-13), we invite the general public and other Federal agencies to comment on proposed information collections. We published a notice of proposed collection for these information collections on April 8, 2020 (85 FR 19778) and we received no comments. We therefore published notice of our intent to submit the collections to OMB and to request public comments (submit to OMB), on June 16, 2020 (85 FR 36425). We are submitting the described information collections to OMB for approval.

Correction

In FR Doc. 2020-12890, beginning on page 36425 in the issue of June 16, 2020, in the third column on page 36425, correct the SUMMARY as discussed in the SUMMARY in this document.

Kimberly Keravuori,
Federal Register Liaison.

[FR Doc. 2020-13833 Filed 6-26-20; 8:45 am]

BILLING CODE 7515-01-P